DEPARTMENT OF LABOR

Occupational Safety and Health Administration

[Docket No. OSHA-2007-0083]

Applied Research Laboratories, Inc.; Revocation of Recognition

AGENCY: Occupational Safety and Health Administration (OSHA), Labor.

ACTION: Notice.

SUMMARY: This notice announces the Occupational Safety and Health Administration's decision to revoke the recognition of Applied Research Laboratories, Inc., (ARL) as a Nationally Recognized Testing Laboratory under 29 CFR 1910.7.

DATES: The revocation was effective on January 28, 2008.

FOR FURTHER INFORMATION CONTACT: MaryAnn Garrahan, Director, Office of Technical Programs and Coordination Activities, NRTL Program, Occupational Safety and Health Administration, U.S. Department of Labor, 200 Constitution Avenue, NW., Room N-3655, Washington, DC 20210, or phone (202) 693-2110.

SUPPLEMENTARY INFORMATION:

I. Notice of Final Decision

The Occupational Safety and Health Administration (OSHA) is giving notice of the revocation of recognition of Applied Research Laboratories, Inc., (ARL) as a Nationally Recognized Testing Laboratory (NRTL). OSHA has taken this action following the requirements under Subsection II.E of Appendix A to 29 CFR 1910.7 (“Subsection E”).

OSHA recognition of an NRTL signifies that the organization has met the legal requirements in section 1910.7 of Title 29, Code of Federal Regulations (29 CFR 1910.7), OSHA's NRTL Program regulations. Recognition is an acknowledgment that the organization can perform independent safety testing and certification of the specific products covered within its scope of recognition and is not a delegation or grant of government authority. As a result of recognition, employers may use products in the workplace that are properly approved by the NRTL to meet OSHA standards that require testing and certification.

Subsection E describes the process that OSHA must use in revoking the recognition of an NRTL. This subsection sets forth three potential causes of revocation and, in the event any cause applies, provides the NRTL with opportunities to correct the deficiencies leading to the proposed revocation. It also provides the NRTL an opportunity to request a hearing before an Administrative Law Judge on the revocation action. (ARL did not request such a hearing.)

OSHA followed the process set forth in Subsection E and is revoking ARL's recognition as an NRTL. OSHA identified deficiencies in ARL's testing and certification operations that were not adequately corrected. OSHA has determined that, as a result of these deficiencies, ARL has failed to substantially satisfy the requirements of 29 CFR 1910.7 and Appendix A, a cause for revocation under OSHA's NRTL Program regulations. OSHA has already notified ARL of the revocation decision, and this decision is final. The effective date of revocation is shown in the DATES section, above. Consequently, the Agency no longer accepts product certifications done by ARL on or after this effective date.

Docket No. OSHA-2007-0083 (formerly NRTL1-97) contains all public materials in the record concerning the recognition of ARL. You may obtain or review copies of these public documents by contacting the Docket Office, Occupational Safety and Health Administration, U.S. Department of Labor, 200 Constitution Avenue, NW., Room N-2625, Washington, DC 20210.

Signed at Washington, DC, this 15th day of February, 2008.
Edwin G. Foulke, Jr.,
Assistant Secretary of Labor for Occupational Safety and Health.

[FR Doc. E8-3324 Filed 2-21-08; 8:45 am]

BILLING CODE 4510-26-P